DEPARTMENT OF DEFENSE

Department of the Navy

Notice of Intent To Prepare an Environmental Impact Statement for Bremerton Waterfront Infrastructure Improvements, Bremerton, Kitsap County, WA, and To Announce a Virtual Public Scoping Meeting

AGENCY: Department of the Navy (DON), Department of Defense (DoD).

ACTION: Notice.

SUMMARY: Pursuant to the National Environmental Policy Act (NEPA) of 1969, as implemented by the Council on Environmental Quality Regulations, the Department of the Navy (DON) announces its intent to prepare an Environmental Impact Statement (EIS) to evaluate the potential environmental impacts associated with construction, modification, replacement, demolition, and operation of multiple waterfront infrastructure and facilities at the Puget Sound Naval Shipyard and Intermediate Maintenance Facility (PSNS & IMF) at Naval Base (NAVBASE) Kitsap Bremerton, Washington. The DON is initiating a 30-day public scoping period to receive comments on the scope of the EIS including identification of potential alternatives, information, and analyses relevant to the Proposed Action, identification of environmental concerns, issues the public would like to see addressed in the EIS, and the project's potential to affect historic properties pursuant to Section 106 of the National Historic Preservation Act (NHPA) of 1966.

DATES: The public 30-day scoping period begins on June 8, 2022, and extends to July 11, 2022. Comments must be postmarked or submitted electronically via email or the website no later than 11:59 p.m. Pacific Daylight Time (PDT) on July 11, 2022, for consideration in the Draft EIS.

The DON will hold a virtual public scoping meeting, consisting of presentations and a question-and-answer session. The meeting will be held on June 23, 2022, 5:30 p.m. to 6:30 p.m. PDT. Information about how to participate in the meeting, including how to submit questions to be discussed at the meeting, is available at the DON project website address below. The DON will also publish participation details for the virtual public scoping meeting in local newspapers and in press releases.

ADDRESSES: The DON invites all interested parties to submit scoping comments on the Bremerton Waterfront Infrastructure Improvements EIS to the physical and electronic addresses listed in the section below. Please visit the project website at www.BremertonWaterfrontImprovementsEIS.com for further information.

Comments may be received:

• electronically via email: info@BremertonWaterfrontImprovementsEIS.com;

• electronically via the project website: www.BremertonWaterfrontImprovementsEIS.com; or

• by mail, postmarked no later than July 11, 2022, to the following address: Naval Facilities Engineering Systems Command Northwest, Attn: Bremerton EIS Project Manager, 1101 Tautog Circle, Room 210, Silverdale, WA 98315.

FOR FURTHER INFORMATION CONTACT: Naval Facilities Engineering Systems Command Northwest, Attn: Ms. Christine Stevenson, Bremerton EIS Project Manager, 1101 Tautog Circle, Room 210, Silverdale, WA 98315, info@BremertonWaterfrontImprovementsEIS.com, 360-396-0080.

SUPPLEMENTARY INFORMATION: The purpose of the Proposed Action is to address critical deficiencies in dry dock capability, capacity, and seismic survivability at NAVBASE Kitsap Bremerton to enable PSNS & IMF to meet its mission to support the DON's nuclear fleet. The Proposed Action is needed because PSNS & IMF does not have the dry dock capability to support the DON's newest class of nuclear-powered aircraft carrier (CVN), USS Gerald R. Ford (CVN 78); PSNS & IMF does not have the dry dock and pier capacity to conduct the required future overhauling, refueling, inactivating, and recycling of submarines; and Dry Dock (DD) 6, the only dry dock on the West Coast that can accommodate a CVN, and other existing infrastructure do not meet current Department of Defense Unified Facilities Criteria design standards for seismic performance.

The Proposed Action will address critical deficiencies in dry dock capability, capacity, and seismic survivability at NAVBASE Kitsap Bremerton to enable PSNS & IMF to meet its mission to support the DON's nuclear fleet. The DON considers an EIS the appropriate document for comprehensively analyzing the Proposed Action, which will affect existing facilities and construct new infrastructure and facilities at PSNS & IMF.

The Proposed Action would occur along the PSNS & IMF waterfront, beginning as early as 2026. Components include: construction of a new multi-mission dry dock (M2D2) at PSNS & IMF that can accommodate all classes of CVNs along the PSNS & IMF waterfront; seismic upgrade of existing DD6; and modification, demolition, and/or replacement of other piers, wharves, quay walls, buildings, cranes, and utilities. Although the majority of the Proposed Action is expected to occur at NAVBASE Kitsap Bremerton, the DON could replace some demolished facilities at other NAVBASE Kitsap installations.

The DON has identified two preliminary action alternatives to carry forward for analysis in the EIS along with the No Action alternative. These alternatives will be further refined based on input received from the public and resource agencies during scoping.

Under Alternative 1 (No Action Alternative), there would be no change from the status quo. The DON would not build an M2D2, upgrade DD6 to meet current seismic standards, or take other component actions. However, the DON would continue to rely on, maintain, and repair existing facilities to perform its mission.

Under Alternative 2, the DON would construct a new M2D2 on the east side of PSNS & IMF, at the location of existing DD3. Additionally, the DON would seismically upgrade DD6 and construct a new Forge Shop at NAVBASE Kitsap Bangor. The DON would also demolish Piers 4, 5, 6, and 7, including the Hammerhead Crane on Pier 6, and construct a new Pier 2. The DON would replace Piers 4 and 6 with new piers. The DON would dredge bottom sediments to create entrance channels and provide adequate draft at wharves and piers.

Under Alternative 3, the DON would construct an M2D2 in the center of the PSNS & IMF waterfront, at the current location of Mooring A. Additionally, the DON would seismically upgrade DD6. The DON would also demolish Mooring A, the Hammerhead Crane on Pier 6, and Pier 4. The DON would replace Pier 4 with a new pier. The DON would dredge bottom sediments to create entrance channels and adequate draft at wharves and piers.

The environmental issues and resource areas the DON would examine in the EIS include, but are not limited to, the following: Air Quality, Water Quality, Geological Resources, Biological Resources, Cultural Resources, American Indian Traditional Resources, Land Use and Recreation, Visual Resources, Noise, Infrastructure and Utilities, Transportation and Traffic, Marine Navigation, Public Health and Safety, Hazardous Materials and Waste, Socioeconomics, and Environmental Justice. The EIS will also analyze measures that would avoid, minimize, or mitigate environmental effects.

Additionally, the DON will conduct all coordination, consultation, and permitting activities required by the Clean Water Act, Rivers and Harbors Act, Endangered Species Act, Marine Mammal Protection Act, Magnuson-Stevens Fishery Conservation and Management Act, NHPA, Coastal Zone Management Act, and other laws and regulations applicable to the project. Since project components would be phased over multiple years, the DON will coordinate with each agency regarding timing of consultations and permitting.

The DON encourages federal, state, and local agencies, tribes, and interested persons to provide comments concerning potential alternatives and environmental issues for analysis in the EIS, as well as to identify specific environmental resources that the DON should consider when developing the Draft EIS. Additionally, the DON encourages interested persons to submit comments concerning historic resources under Section 106 of the NHPA. The DON will prepare the Draft EIS, including analysis of potential effects on those resources that the DON and the public identify. The DON will consider all comments received during the public scoping period during EIS preparation.

The project website is available at www.BremertonWaterfrontImprovementsEIS.com. The project website provides information on the Proposed Action, NEPA process and schedule, and includes a document library. The public can use this website to submit scoping comments electronically between June 8, 2022, and July 11, 2022. In addition, the public can submit substantive questions for discussion with DON representatives at the virtual public meeting. Questions should be submitted by email to info@BremertonWaterfrontImprovementsEIS.com or by completing the form at www.BremertonWaterfrontImprovementsEIS.com between June 8, 2022, and June 22, 2022.

Additional opportunities for public comment will occur after the release of the Draft EIS. The DON intends to publish the Draft EIS in spring 2023, publish the Final EIS in spring 2024, and sign a Record of Decision following the 30-day Final EIS wait period.

Dated: May 27, 2022.
J.M. Pike,
Commander, Judge Advocate General's Corps, U.S. Navy, Federal Register Liaison Officer.

[FR Doc. 2022-11852 Filed 6-7-22; 8:45 am]

BILLING CODE 3810-FF-P